DEPARTMENT OF THE INTERIOR

National Park Service

National Register of Historic Places; Notification of Pending Nominations and Related Actions

Nominations for the following properties being considered for listing or related actions in the National Register were received by the National Park Service before March 19, 2005. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by April 21, 2005.

Carol D. Shull,
Keeper of the National Register of Historic Places.

COLORADO

Hinsdale County

Debs School, (Rural School Buildings in Colorado MPS) 2783 McManus Rd., Pagosa Springs, 05000338.

Mesa County

Cayton Guard Station, Forest Service Road 814.1, Silt, 05000335.

DISTRICT OF COLUMBIA

District of Columbia

Glen Hurst, 4933 MacArthur Blvd. NW., Washington, 05000336.

IDAHO

Ada County

Star Camp, N. Star Rd. and W. 3rd St., Star, 05000344.

Idaho County

Foskett, Dr. Wilson, Home and Drugstore, West side of River Rd., White Bird, 05000337.

INDIANA

Owen County

Cataract Covered Bridge, Jct. of Cty Rte. 235W and Cty Rte 1000N over Mill Creek in Leiber State Recreation Area, Cataract, 05000339.

IOWA

Johnson County

Gilbert—Linn Street Historic District, (Iowa City, Iowa MPS AD) Portions of 300-600 blks of N. Gilbert and N. Linn Sts., Iowa City, 05000366.

LOUISIANA

St. Landry Parish

Donator, Martin, House, (Louisiana's French Creole Architecture MPS) 8343 U.S. 182, Opelousas, 05000345.

MICHIGAN

Charlevoix County

Charlevoix South Pierhead Light, (Light Stations of the United States MPS) S pier at harbor entrance, 0.3 WNW of U.S. 31 drawbridge, Charlevoix, 05000346.

NEBRASKA

Lancaster County

Stake, R.O., House, 145 S 28th St., Lincoln, 05000357.

Richardson County

Weaver, Gov. Arthur J., House, 1906 Fulton St., Falls City, 05000356.

NEW YORK

Nassau County

Jones Beach State Park, Causeway and Parkway System, Ocean, Wantagh, Meadowbrook and Loop State Parkways, Wantagh, 05000358.

Suffolk County

Race Rock Light Station, (Light Stations of the United States MPS) 0.6 mi. SW of Race Point, Fishers Island, 05000347.

NORTH CAROLINA

Durham County

Forbus, Wiley and Elizabeth, House, (Durham MRA) 3307 Devon Rd., Durham, 05000348.

Greene County

Best, Benjamin W., House, 2193 Mewborn Church Rd., Jason, 05000349.

Lenoir County

American Tobacco Company Prizery, 619 N. Herritage St., Kinston, 05000350.

Martin County

Bear Grass Primitive Paptist Church, NW side NC 1001, 0.1 mi. N of jct with NC 1106, Bear Grass, 05000352.

Everetts Christian Church, 109 S. Broad St., Everetts, 05000351.

First Christian Church, 126 S. Main St., Robersonville, 05000353.

Oak City Christian Church, 310 W. Commerce St., Oak City, 05000354.

Skewarkey Primitive Baptist Church, W side of U.S. 17, 0.04 mi. S. of jct. with US 64, Williamston, 05000355.

OHIO

Clinton County

Beam Farm Woodland Archeological District, Address Restricted, Sabina, 05000340.

Hamilton County

NcWilliams, Matthew, House, 3586 River Rd., Cincinnati, 05000341.

Jefferson County

Bernhard, Ann E. Lewis, House, 42 e. Main St., Adena, 05000342.

Putnam County

Bridenbaugh District No. 3 Schoolhouse, Jct. of Cty Rd. 6 and Township Rd M6, Pandora, 05000343.

TENNESSEE

Dickson County

Miller Family Farm, (Historic Family Farms in Middle Tennessee MPS) 160 Old TN 48, Charlotte, 05000360.

Franklin County

Haynes House, 519 Spring St., Decherd, 05000359.

TEXAS

Travis County

Royal Arch Masonic Lodge, 311 W. 7th St., Austin, 05000362.

Teachers State Association of Texas Building, (East Austin MRA) 1191 Navasota, Austin, 05000361.

UTAH

Salt Lake County

Granite LDS Ward Chapel—Avard Fairbanks Studio, (Sandy City MPS) 9800 S 3100 E, Sandy, 05000364.

Weber County

Odgen Union Station (Boundary Increase), 2501 Wall Ave., Ogden, 05000363.

WASHINGTON

Grays Harbor County

Hodgdon, Judge Charles W., House, 717 Bluff, Hoquiam, 05000365.

A request for removal has been made for the following resources:

UTAH

Duchesne County

Toyack Future Farmers of America Chapter House, 340 N. 300 West Roosevelt, 84002175.

Salt Lake County

Webster School, 2700 South 9180 West Magna, 00001585.

Utah County

Hotel Roberts, 192 S. University Ave. Provo, 79002516.

Nunn Power Plant, Off US 189 Provo, 79002517.

Washington County

Hurricane High School, (Public Works Buildings TR), 34 S. One Hundred W Hurricane, 8600752.

[FR Doc. 05-6742 Filed 4-5-05; 8:45 am]

BILLING CODE 4312-51-P